DEPARTMENT OF HEALTH AND HUMAN SERVICES

National Institutes of Health

Office of the Director, National Institutes of Health; Notice of Meeting

Notice is hereby given of a meeting of the HEAL (Helping to End Addiction Long-term) Multi-Disciplinary Working Group.

The teleconference meeting will be open to the public as indicated below. Individuals who plan to attend the meeting and need special assistance, such as sign language interpretation or other reasonable accommodations, should notify the Contact Person listed below in advance of the meeting.

Name of Working Group: HEAL Multi-Disciplinary Working Group.

Date: January 31, 2019.

Open: 1:00 p.m.-2:00 p.m.

Agenda: Welcome to the working group, an overview of the HEAL Initiative, and a charge to the HEAL Multi-Disciplinary Working Group.

Place: Conference Call, 1-800-988-9542, Participant passcode: 1254347.

Contact Person: Rebecca G. Baker, Ph.D., Office of the Director, National Institutes of Health, 1 Center Drive, Room 103A, Bethesda, MD 20892, (301) 402-1994, Rebecca.baker@nih.gov.

Information is also available on the Office of the Director for the NIH HEAL Initiative℠ home page: https://www.nih.gov/research-training/medical-research-initiatives/heal-initiative where an agenda and any additional information for the meeting will be posted when available.

Dated: January 25, 2019.
Sylvia L. Neal,
Program Analyst, Office of Federal Advisory Committee Policy.

[FR Doc. 2019-00295 Filed 1-29-19; 8:45 am]

BILLING CODE 4140-01-P